NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: Proposed rule, Compatibility with IAEA Transportation Safety Standards (TS-R-1) and Other Transportation Safety Amendments (10 CFR part 71).

3. The form number, if applicable: Not applicable.

4. How often the collection is required: Biennial and on occasion.

5. Who will be required or asked to report: NRC licensees, Certificate of Compliance (CoC) holders, and applicants for a CoC.

6. An estimate of the number of responses: 83 (A total of 37 responses [8 for CoC holders and applicants and 29 annualized one-time responses from licensees] plus 46 recordkeepers).

7. The estimated number of annual respondents: 75 (46 CoC holders and applicants and an annualized 29 one-time licensee respondents).

8. An estimate of the total number of hours needed annually to complete the requirement or request: 1,505 hours (676 hours for reporting and 829 hours for recordkeeping).

9. An indication of whether Section 3507(d), Pub. L. 104-13 applies: Applicable.

10. Abstract: The proposed rule amends NRC regulations on packaging and transporting radioactive material to be compatible with the International Atomic Energy Agency (IAEA) standards and to codify other applicable requirements. The proposed rule would add CoC holders and applicants to the list of regulated entities subject to mandatory requirements such as quality assurance program and reporting. A new subpart I, Type B(DP) Package Approval, is being created to achieve a parallel regulatory structure with part 72 regulations and to provide an alternative approach for approving Type B(DP) dual purpose packages used for storage and transport of spent fuels. If used, subpart I will reduce burden, improve effectiveness and efficiency, and ensure consistency between parts 71 and 72 requirements.

Submit, by May 6, 2002, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal my be viewed free of charge at the NRC Public Document Room, One White Flint North, 11555 Rockville Pike, Room 0-1F23, Rockville, MD 20852. The proposed rule indicated in “Compatibility with IAEA Transportation Safety Standards (TS-R-1) and Other Transportation Safety Amendments' is or has been published in the Federal Register within several days of the publication date of this Federal Register Notice. The OMB clearance package and rule are available at the NRC worldwide web site: http://www.nrc.gov/public-involve/doc-comment/omb/index.html for 60 days after the signature date of this notice and are also available at the rule forum site, http://ruleforum.llnl.gov.

Comments and questions should be directed to the OMB reviewer by May 6, 2002:

Bryon Allen, Office of Information and Regulatory Affairs (3150-0008), NEOB-10202, Office of Management and Budget, Washington, DC 20503.

Comments can also be submitted by telephone at (202) 395-3087.

The NRC Clearance Officer is Brenda Jo. Shelton, 301-415-7233.

Dated at Rockville, Maryland, this 28th day of March, 2002.
For the Nuclear Regulatory Commission.
Brenda Jo. Shelton,
NRC Clearance Officer, Office of the Chief Information Office.

[FR Doc. 02-8245 Filed 4-4-02; 8:45 am]

BILLING CODE 7590-01-P